ENVIRONMENTAL PROTECTION AGENCY

[ER-FRL-9044-4]

Environmental Impact Statements; Notice of Availability

Responsible Agency: Office of Federal Activities, General Information 202-564-5632 or https://www.epa.gov/nepa/.

Weekly receipt of Environmental Impact Statements

Filed 04/01/2019 Through 04/05/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190044, Final, BLM, NM, Copper Flat Copper Mine, Review Period Ends: 05/20/2019, Contact: Leighandra Keeven 575-525-4337

EIS No. 20190057, Final, USFS, WY, Medicine Bow Landscape Vegetation Analysis (LaVA) Project, Review Period Ends: 05/20/2019, Contact: Melissa Martin 307-745-2371

EIS No. 20190058, Final, FHWA, NY, Hunts Point Interstate Access Improvement Project, Contact: Erik Koester—NYSDOT Project Director 718-482-4683. Under 23 U.S.C. 139(n)(2), FHWA has issued a single document that consists of a final environmental impact statement and record of decision. Therefore, the 30-day wait/review period under NEPA does not apply to this action.

EIS No. 20190059, Draft, BLM, WY, Moneta Divide Natural Gas and Oil Development Project, Comment Period Ends: 07/18/2019, Contact: Kristin Yannone 307-332-8400

EIS No. 20190060, Draft, USFWS, CA, Proposed Habitat Conservation Plan and Incidental Take Permit for Sierra Pacific Industries, Comment Period Ends: 06/18/2019, Contact: Kim Turner 916-414-6600

EIS No. 20190061, Draft, BIA, CA, Redding Rancheria Fee-to-Trust and Casino Project, Comment Period Ends: 06/03/2019, Contact: Chad Broussard 916-978-6165

EIS No. 20190062, Final, FERC, FL, Eagle LNG Partners Jacksonville, LLC Jacksonville Project, Review Period Ends: 05/20/2019, Contact: Office of External Affairs 866-208-3372

Amended Notice

EIS No. 20180087, Draft, USDA, NAT, Southern Gardens Citrus Nursery, LLC Permit to Release Genetically Engineered Citrus tristeza virus Draft Environmental Impact Statement, Comment Period Ends: 04/30/2019, Contact: Joanne Serrels 301-851-3867. Revision to FR Notice Published 05/11/2018; APHIS has reopened the comment period to end on 04/30/2019.

Dated: April 15, 2019.
Robert Tomiak,
Director, Office of Federal Activities.

[FR Doc. 2019-07779 Filed 4-18-19; 8:45 am]

BILLING CODE 6560-50-P